DEPARTMENT OF DEFENSE

Defense Acquisition Regulations System

48 CFR Part 217

RIN 0750-AG67

Defense Federal Acquisition Regulation Supplement; Limitations on Procurements With Non-Defense Agencies (DFARS Case 2009-D027)

AGENCY: Defense Acquisition Regulations System, Department of Defense (DoD).

ACTION: Final rule.

SUMMARY: DoD is adopting without change an interim rule amending the Defense Federal Acquisition Regulation Supplement (DFARS) to implement section 806 of the National Defense Authorization Act for Fiscal Year 2010. Section 806 authorizes an agency that is an element of the intelligence community to award a contract for supplies or services in excess of the simplified acquisition threshold for the performance of a joint program conducted to meet the needs of DoD and the non-DoD agency.

DATES: Effective Date: February 22, 2011.

FOR FURTHER INFORMATION CONTACT: Ms. Meredith Murphy, 703-602-1302.

SUPPLEMENTARY INFORMATION:

I. Background

DoD published an interim rule at 75 FR 32639 on June 8, 2010, to implement section 806 of the National Defense Authorization Act for Fiscal Year 2010 (Pub. L. 111-84), providing limitations on procurements with non-Defense agencies. The public comment period closed August 9, 2010. No comments were received in response to the interim rule.

II. Executive Order 12866

This rule was not subject to Office of Management and Budget review under Executive Order 12866, dated September 30, 1993. This rule is not a major rule under 5 U.S.C. 804.

III. Regulatory Flexibility Act

DoD certifies that this final rule will not have a significant economic impact on a substantial number of small entities within the meaning of the Regulatory Flexibility Act, 5 U.S.C. 601, et seq., because the rule addresses internal DoD procedural matters only. Specifically, this implementation of section 806 of the National Defense Authorization Act for Fiscal Year 2010, Treatment of Non-Defense Agency Procurements Under Joint Programs with Intelligence Community, amends the limitations placed on procurements by non-DoD agencies by exempting such procurements that are: (a) Entered into by a non-DoD agency that is an element of the intelligence community and (b) when the procurement is for the performance of a joint program conducted to meet the needs of DoD and the non-DoD agency. The statute resulted in changes to internal operating procedures with no impact on contractors or offerors.

IV. Paperwork Reduction Act

The changes to the DFARS do not impose information collection requirements that require the approval of the Office of Management and Budget under the Paperwork Reduction Act (44 U.S.C. chapter 35).

List of Subjects in 48 CFR Part 217

Government procurement.

Mary Overstreet,
Editor, Defense Acquisition Regulations System.

Interim Rule Adopted as Final Without Change

Accordingly, the interim rule amending 48 CFR part 217 published at 75 FR 32639 on June 8, 2010, is adopted as final without change.

[FR Doc. 2011-3754 Filed 2-18-11; 8:45 am]

BILLING CODE 5001-08-P